FEDERAL COMMUNICATIONS COMMISSION

Notice of Public Information Collection Approved by the Office of Management and Budget

March 7, 2007.

SUMMARY: The Federal Communications Commission (Commission) has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: Sue Gilgenbach, Sue.Gilgenbach@fcc.gov, (202) 418-0639.

SUPPLEMENTARY INFORMATION: OMB Control Number: 3060-0484.

OMB Approval Date: February 19, 2008.

Expiration Date: February 28, 2011.

Title: Part 4 of the Commission's Rules Concerning Disruptions to Communications.

Form No.: Not applicable.

Estimated Annual Burden: 4,819 responses; 2 hours per response; 9,638 hours total per year.

Obligation to Respond: Mandatory. 47 CFR Part 4.

Nature and Extent of Confidentiality: Responses are presumed to be confidential. It is expected that the information filings will be shared only with the Department of Homeland Security, under appropriate confidential disclosure provisions. Other persons seeking disclosure must follow the procedures delineated in 47 CFR 0.457 and 0.459 of the Commission's rules.

Needs and Uses: The information collection is necessary for the following reasons:

(1) It enables the Commission to achieve its statutory objectives of ensuring the reliability and security of the nation's telecommunications networks for the purposes of public safety and the national defense and security, including homeland security. If less frequent reporting were required, outages having a detrimental effect on the public and outages that could provide valuable network reliability information could escape Commission monitoring efforts.

(2) In addition, some of the information collected could constitute “Critical Infrastructure Information,” as defined in 6 U.S.C. 131, which would be shared with the Department of Homeland Security in furtherance of its missions to protect the United States from terrorist activity and to otherwise protect domestic security. Less frequent reporting could jeopardize the ability of the Commission and the Department of Homeland Security to meet their respective legal duties to the American people.

This information collection consists of reports of outages of wireline communications, paging and wireless communications, cable circuit switched telephony and satellite communications. If the Commission did not receive the information in these reports for analysis and further investigation, the Commission would have considerable difficulty determining the state of network reliability and security. It would have to depend on delayed, incomplete and second-hand information and analysis as a basis for recommending any future Commission action that might be needed to enhance the reliability and security of the Nation's communications infrastructure. Without this information collection, the Commission would have difficulty determining the implementation and efficacy of its own and industry's present and future recommendations for enhancing reliability and security. Furthermore, the Commission would be less able to spot and act on reliability and security weaknesses as they begin to appear in the rapidly changing networks.

Thus, the reporting requirement facilitates Commission monitoring of the reliability and security of communications service being provided and enables it to take swift remedial action, as required. The reporting requirement is also essential to the Commission's mission of ensuring that the public is protected from major disruptions to telephone services.

This information collected has been used by the Commission staff to determine weaknesses in network reliability and to work with industry to remedy any such weaknesses.

Federal Communications Commission.
Marlene H. Dortch,
Secretary.

[FR Doc. E8-5305 Filed 3-14-08; 8:45 am]

BILLING CODE 6712-01-P